DEPARTMENT OF COMMERCE

National Oceanic and Atmospheric Administration

[Docket No. 020418090-2090-01; I.D. 041202B]

RIN 0648-ZB19

Financial Assistance for Research and Development Projects to Assess the Potential Suitability of Non-native Oysters in Chesapeake Bay

AGENCY: National Marine Fisheries Service (NMFS), National Oceanic and Atmospheric Administration (NOAA), Commerce.

ACTION: Notice of availability of funds.

SUMMARY: NMFS publishes this notice to solicit proposals for research and development projects that will address the potential suitability of Crassostrea ariakensis or other oysters for aquaculture in Chesapeake Bay. Through this notice, NMFS sets forth instructions on how to apply for financial assistance, and how NMFS will determine which applications will be selected for funding. A total of up to $100,000 in Fiscal Year (FY) 2002 funds is available through the NOAA/NMFS Chesapeake Bay Office for cooperative agreements.

DATES: Applications for funding under this program must be received by 5 p.m. eastern daylight savings time on June 12, 2002. Applications received after that time will not be considered for funding. Applications will not be accepted electronically nor by facsimile machine submission.

ADDRESSES: You can obtain an application package from, and send completed applications to: Mr. Derek Orner, National Marine Fisheries Service, NOAA Chesapeake Bay Office, 410 Severn Avenue, Suite 107A, Annapolis, MD 21403. You can also obtain the application package from the NOAA Chesapeake Bay Office webpage. http://noaa.chesapeakebay.net/

FOR FURTHER INFORMATION CONTACT: Mr. Lowell Bahner or Mr. Derek Orner, National Marine Fisheries Service, NOAA Chesapeake Bay Office, 410/267-5660; or e-mail: lowell.bahner@noaa.gov.

SUPPLEMENTARY INFORMATION:

I. Introduction

A. Authority. The Fish and Wildlife Act of 1956, as amended, at 16 U.S.C. 753a, authorizes the Secretary of Commerce (Secretary), for the purpose of developing adequate, coordinated, cooperative research and training programs for fish and wildlife resources, to continue to enter into cooperative agreements with colleges and universities, with game and fish departments of the several states, and with non-profit organizations relating to cooperative research units. The Secretary of Commerce is authorized under the Fish and Wildlife Coordination Act, 16 U.S.C. 661-666c, to provide assistance to, and cooperate with, Federal, State, and public or private agencies and organizations in the development, protection, rearing, and stocking of fisheries resources thereof, and for fisheries habitat restoration. The Departments of Commerce (DOC), Justice, State, the Judiciary, and Related Agencies Appropriations Act of 2002 (Pub. L. 107-77, 115 Stat.748) makes funds available to the Secretary.

B. Catalog of Federal Assistance (CFDA). The activities requested are listed in the “Catalog of Federal Domestic Assistance” under number 11.457, entitled Chesapeake Bay Studies.

C. Research Initiative Description. The Eastern oyster, Crassostrea virginica, has been a major fishery in Chesapeake Bay for nearly three centuries. In the late 1950's, MSX spread into the lower Chesapeake Bay devastating native populations of the eastern oyster. By the 1970's, MSX had wiped out vast tracts of oysters in Virginia. In the 1980's, Dermo joined MSX in decimating the native oyster population. Together, both diseases have frustrated restoration and aquaculture efforts and have brought the oyster fishery to near demise.

Several workshops were convened in the Chesapeake Bay region to explore options for countering the effects of these diseases. These workshops focused on specific topics such as research needs to combat MSX and Dermo (see the National Oyster Disease Research Program), socio-economic issues related to the oyster industry and the ecological and genetic implications of introducing non-native oyster species. Initial experimentation was conducted on C. gigas but has recently moved toward investigations of another Asian species, C. ariakensis. This research initiative seeks to garner information to make scientifically-based resource management decisions.

D. Funding Availability. This document describes how interested persons can apply for funding under this initiative and how funding decisions will be made.

This solicitation announces that funding of up to $100,000 may be available through the NOAA Chesapeake Bay Office. This announcement does not guarantee that sufficient funds will be available to make awards for all selected applications submitted under this program.

II. Research Priorities

Proposals should exhibit familiarity with related work that is completed or ongoing. Where appropriate, proposals should be multi-disciplinary. Coordinated efforts involving multiple eligible applicants or persons are encouraged. Proposals must address one of the priorities listed here. If the proposal addresses more than one priority, it should list first on the application the priority that most closely reflects the objective of the proposals.

(A) Consideration for funding will be given to applications that address the following priorities for C. ariakensis and/or other potentially suitable oysters for aquaculture in Chesapeake Bay. Due to the risks of accidental release of non-native organisms into Chesapeake Bay, in-water testing may need to be conducted outside Chesapeake Bay and in waters native to the organism being evaluated, or in closed systems with adequate safety controls. Proposals should clearly explain the safe guards that would be used. Proposals should also explain any needs for obtaining or conducting an Environmental Assessment (EA) or Environmental Impact Statement (EIS) to comply with National Environmental Policy Act or National Invasive Species Act or other relevant Federal or state requirements, since these would have a direct impact on whether or not the work could be conducted. Proposals may include:

(1) Assessment of the biological and physiological requirements of the oyster with regard to its potential as a fishery and for creating habitat suitable to Chesapeake Bay. Proposals may include life history characteristics, stock recruitment characteristics, environmental requirements, growth rates, reproductive rates and capacity, geographic range, capacity for reef building, reef structure, value as habitat, screening of potential pathogens, disease susceptibility, causes of mortality, predators and predation, filtering capacity, and other environmental considerations relevant to the growth and survival of a viable culture or stock.

(2) Comparison of oysters that can reproduce with those that can not (sterile). Proposals may include comparisons of growth rates, value as habitat, disease susceptibility, causes of mortality, predators and predation, filtering capacity, and other factors relevant to the comparison.

(3) Evaluation of benefits and risks associated with culturing or releasing non-native oysters in Chesapeake Bay. Proposals may include the economic benefits and risks to the commercial and recreational sectors, role of watermen in aquaculture or restoration, potential for spreading disease, potential for becoming invasive, potential for competition with native species, potential for cross-breeding or genetic mixing, potential for fouling boats, engines, pilings, marinas, pumps, wires, and pipes, comparison of non-reproductive organisms with reproductively capable organisms for aquaculture or wide-scale restoration, capacity as habitat or fishery, potential reversion from non-reproductive (sterile) to reproductive (non-sterile) state, and the potential to spread naturally to adjacent waters, including the Atlantic Ocean, Coastal Bays, Gulf Coast and East and Gulf Coast bays and estuaries.

III. How to Apply

A. Eligible Applicants. Eligible applicants are institutions of higher education, hospitals, other nonprofits, commercial organizations, foreign governments, organizations under the jurisdiction of foreign governments, international organizations, state, local and Indian tribal governments. Federal agencies or institutions are not eligible to receive Federal assistance under this notice.

The Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation’s capacity to provide high-quality education, and to increase opportunities for MSIs to participate in and benefit from Federal Financial Assistance programs. DOC/NOAA encourages all applicants to include meaningful participation of MSIs.

B. Duration and Terms of Funding. Under this solicitation, NMFS will fund 12 month cooperative agreements. The cooperative agreement has been determined to be the appropriate funding instrument because of the substantial involvement of NMFS in:

1. Developing program research priorities;

2. Evaluating the performance of the program for effectiveness in meeting regional goals for Chesapeake Bay management entities;

3. Monitoring the progress of each funded project;

4. Holding periodic workshops with investigators; and

5. Working with recipients to prepare annual reports summarizing current research efforts with the NOAA Chesapeake Bay Office.

Project dates should be scheduled to begin no later than 1 October 2002. Cooperative agreements are approved on an annual basis but may be considered eligible for continuation beyond the first project and budget period subject to the approved scope of work, satisfactory progress, and availability of funds at the total discretion of NMFS. However, there are no assurances for such continuation. Publication of this document does not obligate NMFS to award any specific cooperative agreement or to obligate any part of the entire amount of funds available.

C. Cost-sharing Requirements. Applications must reflect the total budget necessary to accomplish the project, including contributions and/or donations. Cost-sharing is not required but is encouraged.

D. Format. 1. Applications for project funding must be complete and must follow the format described in this document.

Applicants must identify the specific research priority or priorities to which they are responding. If the proposal addresses more than one priority, it should list first on the application the priority that most closely reflects the objective of the proposals. For applications containing more than one project, each project component must be identified individually using the format specified in this section. If an application is not in response to a priority, it should so state. Applicants should not assume prior knowledge on the part of NMFS as to the relative merits of the project described in the application.

Applications must not be bound and must be one-sided. All incomplete applications will be returned to the applicant. Applicants are required to submit 1 signed original and 2 copies of the proposal.

2. Applications must be submitted in the following format:

(a) Cover sheet: An applicant must use OMB Standard Form 424 (revised July 1997) as the cover sheet for each project. Applicants may obtain copies of these forms from the NOAA Grants Management Division, the NOAA Chesapeake Bay Office (see ADDRESSES) from the NOAA Grants website, http://www.rdc.noaa.gov/grants/.

(b) Project summary:It is recommended that each proposal contain a summary of not more than one page that provides the following:

(1) Project title.

(2) Project status (new vs. continuation).

(3) Project duration (beginning and ending dates).

(4) Name, address, and telephone number of applicant.

(5) Principal Investigator(s) (PI).

(6) Project objectives.

(7) Summary of work to be performed.

(8) Total Federal funds requested.

(9) Cost-sharing to be provided from non-Federal sources, if any. Specify whether contributions are project-related cash or in-kind.

(10) Total project cost.

(c) Project description (including results from prior support): Each project must be completely and accurately described. The main body of the proposal should be a clear statement of the work to be undertaken and should include: specific objectives and performance measures for the period of the proposed work and the expected significance; relation to longer-term goals of the PI’s project; and relation to other work planned, anticipated, or underway under Federal Assistance. The project description must not exceed 15 pages in length. Visual materials, including charts, graphs, maps, photographs and other pictorial presentations are not included in the 15-page limitation. If an application is awarded, NMFS will make all portions of the project description available to the public for review; therefore, NMFS cannot guarantee the confidentiality of any information submitted as part of any project, nor will NMFS accept for consideration any project requesting confidentiality of any part of the project.

Each project must be described as follows:

(1) Identification of problem(s): Describe the specific problem to be addressed (see section II above).

(2) Project objectives:The project description must identify the following three project objectives: a. Identify the specific priority listed earlier in the solicitation to which the proposed projects respond, if any. b. Identify the problem/opportunity you intend to address and describe its significance to the fishing community. c. State what you expect the project to accomplish.

If you are applying to continue a project previously funded under the Chesapeake Bay Fisheries Research Program, describe in detail your progress to date and explain why you need additional funding.

Objectives should be:

(a) Simple and easily understandable.

(b) As specific and quantitative as possible.

(c) Clear with respect to the “what and when” and should avoid the “how and why.”

(d) Attainable within the time, money, and human resources available.

(e) Use action verbs that are accomplishment oriented.

(f) Identify specific performance measures.

(3) Results from Prior Chesapeake Bay Fisheries Research Support:If any Principal Investigator (PI) or co-PI identified on the project has received NOAA Chesapeake Bay Office support in the past 5 years, information on the prior award(s) is required. The following information must be provided:

(a) The NOAA award number, amount and period of support;

(b) The title of the project;

(c) Summary of the results of the completed work, including, for a research project, any contribution to the development of human resources in science/biology;

(d) Publications resulting from the award;

(e) Brief description of available data, samples, physical collections and other related research products not described elsewhere; and

(4) Need for Government financial assistance: Demonstrate the need for assistance. Any appropriate database to substantiate or reinforce the need for the project should be included. Explain why other funding sources cannot fund all the proposed work. List all other sources of funding that are or have been sought for the project.

(5) Benefits or results expected: Identify and document the results or benefits to be derived from the proposed activities.

(6) Project statement of work: The Statement of Work is the scientific or technical action plan of activities that are to be accomplished during each budget period of the project. This description must include the specific methodologies, by project job activity, proposed for accomplishing the proposal's objective(s).

Investigators submitting proposals in response to this announcement are strongly encouraged to develop inter-institutional, inter-disciplinary research teams in the form of single, integrated proposals or as individual proposals that are clearly linked together. Such collaborative efforts will be factored into the final funding decision.

Each Statement of Work must include the following information:

(a) The applicant's name.

(b) The inclusive dates of the budget period covered under the Statement of Work.

(c) The title of the proposal.

(d) The scientific or technical objectives and procedures that are to be accomplished during the budget period. A detailed set of objectives and procedures to answer who, what, how, when, and where. The procedures must be of sufficient detail to enable competent workers to be able to follow them and to complete scheduled activities.

(e) Location of the work.

(f) A list of all project personnel and their responsibilities.

(g) A milestone table that summarizes the procedures (from item III.D.2.c(5)(d)) that are to be attained in each project month covered by the Statement of Work. Table format should follow sequential month rather than calendar month (i.e. Project period Month 1, Month 2... versus October, November ...)

(7) Federal, state and local government activities: List any programs (Federal, state, or local government or activities, including Sea Grant, state Coastal Zone Management Programs, NOAA Oyster Disease Research Program, the state/Federal Chesapeake Bay Program, etc.) this project would affect and describe the relationship between the project and those plans or activities.

(8) Project management: Describe how the project will be organized and managed. Include resumes of principal investigators. List all persons directly employed by the applicant who will be involved with the project. If a consultant and/or subcontractor is selected prior to application submission, include the name and qualifications of the consultant and/or subcontractor and the process used for selection.

(9) Monitoring of project performance: Identify who will participate in monitoring the project.

(10) Project impacts: Describe how these products or services will be made available to the fisheries and management communities.

(11) Evaluation of project: The applicant is required to provide an evaluation of project accomplishments and progress towards the project objectives and performance measures at the end of each budget period and in the final report. The application must describe the methodology or procedures to be followed to determine technical feasibility, or to quantify the results of the project in promoting increased production, product quality and safety, management effectiveness, or other measurable factors.

(12) Total project costs: Total project costs is the amount of funds required to accomplish what is proposed in the Statement of Work, and includes contributions and donations. All costs must be shown in a detailed budget. A standard budget form (SF-424A) is available from the offices listed and on the internet (see ADDRESSES). NMFS will not consider fees or profits as allowable costs for grantees. Additional cost detail may be required prior to a final analysis of overall cost allowability, allocability, and reasonableness. The date, period covered, and findings for the most recent financial audit performed, as well as the name of the audit firm, the contact person, and phone number and address, must be also provided.

(d) Supporting documentation: Provide any required documents and any additional information necessary or useful to the description of the project. The amount of information given in this section will depend on the type of project proposed, but should be no more than 20 pages. The applicant should present any information that would emphasize the value of the project in terms of the significance of the problems addressed. Without such information, the merits of the project may not be fully understood, or the value of the project may be underestimated. The absence of adequate supporting documentation may cause reviewers to question assertions made in describing the project and may result in lower ranking of the project. Information presented in this section should be clearly referenced in the project description.

IV. Review Process and Criteria

A. Initial Evaluation of Applications. Applications will be reviewed by NOAA to assure that they meet all requirements of this announcement. Proposals that do not support the research priorities as defined in section II. above will not be considered for funding.

B. Consultation with Experts in the Field of Fisheries Research and Invasive Species. For applications meeting the requirements of this solicitation, NMFS will conduct an individual technical evaluation (via mail/electronic mail) of each project. This review normally will involve experts from both NOAA and non-NOAA organizations. All comments submitted to NMFS will be taken into consideration in the technical evaluation of projects. Reviewers will be asked to score and comment based on the following four criteria (total of 50 possible points):

1. Problem description and conceptual approach for resolution, especially the applicant's comprehension of the problem(s), familiarity with related work that is completed or ongoing, and the overall concept proposed to resolve the problem(s) (15 points).

2. Soundness of project design/technical approach, especially whether the applicant provided sufficient information to technically evaluate the project and, if so, the strengths and weaknesses of the technical design proposed for problem resolution (20 points).

3. Project management and experience and qualifications of personnel, including organization and management of the project, and the personnel experience and qualifications (5 points).

4. Justification and allocation of the budget in terms of the work to be performed (10 points).

C. Review Panel. NMFS will convene a review panel consisting of at least three regional experts (both NOAA and non-NOAA panelists) in the scientific and management aspects of fisheries and invasive species research.

Each individual panel member will:

1. Provide independent review based on the same criteria and scoring as the technical review.

2. Provide a numerical ranking of all submitted proposals and suggestions for modifications (i.e., budget, personnel, technical approach, etc.).

The review panel will collectively:

1. Discuss all review comments as a panel incorporating the evaluation provided by the technical reviewers.

D. Funding Decision. After applications have been evaluated and ranked numerically by the review panel, the Director of the NOAA/NMFS Chesapeake Bay Office, in consultation with NOAA Chesapeake Bay Office staff and the Assistant Administrator (AA) for Fisheries, NOAA, will determine the projects to be recommended for funding based upon the technical evaluations and panel review comments, and determine the amount of funds available for the program. Numeric ranking will be the primary consideration for deciding which of the proposals will be selected for funding. In making the final selections, NOAA/NMFS may consider costs, geographical distribution, inter-jurisdictional and inter-institutional collaboration and duplication with other federally funded projects. Accordingly, numerical ranking is not the sole factor in deciding which proposals will be selected for funding. The Director of the NOAA/NMFS Chesapeake Bay Office will prepare a written justification for any recommendations for funding that fall outside the ranking order, or for any cost adjustments. The exact amount of funds awarded to each project will be determined in preaward negotiations between the applicant, the Grants Office, and the NOAA/NMFS Chesapeake Bay Office staff. Potential grantees should not initiate projects in expectation of Federal funding until an award document signed by an authorized NOAA official has been received.

E. Applications not selected for funding will be held in the Program Office for a period of at least 12 months.

V. Administrative Requirements

A. Obligations of the Applicant

Periodic Workshops—Investigators will be expected to prepare for and attend one or two workshops with other Fisheries Research Program researchers to encourage interdisciplinary dialogue and collaboration.

B. Other Requirements

1. Indirect Cost Rates—The budget may include an amount for indirect costs if the applicant has an established indirect cost rate with the Federal government. Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

2. The Department of Commerce Pre-Award Notification Requirements for Grants and Cooperative Agreements contained in the Federal Register notice of October 1, 2001 (66 FR 49917), are applicable to this solicitation. However, please note that the Department of Commerce will not implement the requirements of Executive Order 13202 (66 FR 49921), pursuant to guidance issued by the Office of Management and Budget, in light of a court opinion which found that the Executive Order was not legally authorized. See Building and Construction Trades Department v. Allbaugh, 172 F. Supp. 2d 138 (D.D.C 2001). This decision is currently on appeal. When the case has been finally resolved, the Department will provide further information on implementation of Executive Order 13202.

3. Financial Management Certifications/preaward Accounting Survey—Successful applicants, at the discretion of the NOAA Grants Officer, may be required to have their financial management systems certified by an independent public accountant as being in compliance with Federal standards specified in the applicable Office of Management and Budget (OMB) Circulars prior to execution of the award. Any first-time applicant for Federal grant funds may be subject to a preaward accounting survey by the DOC specified in the applicable OMB Circulars/Code of Federal Regulations prior to execution of the award.

Classification

This action has been determined to be "not significant" for purposes of Executive Order 12866.

Applications under this program are subject to Executive Order 12372, “Intergovernmental Review of Federal Programs.”

Pursuant to Section 553(a)(2) of the Administrative Procedure Act, prior notice and an opportunity for public comment are not required for this notification concerning grants, benefits, and contracts. Therefore, a regulatory flexibility analysis is not required for purposes of the Regulatory Flexibility Act 5 U.S.C. 601 et seq.

This document contains collection-of-information requirements subject to the Paperwork Reduction Act. The use of Standard Forms (SF) 424 and 424A have been approved by OMB under their respective control numbers 0348-0043 and 0348-0044. Notwithstanding any other provision of law, no person is required to respond to, nor shall any person be subject to a penalty for failure to comply with, a collection of information subject to the Paperwork Reduction Act, unless that collection displays a currently valid OMB control number.

Dated: May 7, 2002.
John Oliver,
Deputy Assistant Administrator for Operations, National Marine Fisheries Service.

[FR Doc. 02-11928 Filed 5-10-02; 8:45 am]

BILLING CODE 3510-22-S